DEPARTMENT OF LABOR

Employment and Training Administration

[TA-W-50,242]

Beres Industries, Inc., Lakewood, New Jersey; Notice of Termination of Investigation

Pursuant to Section 221 of the Trade Act of 1974, an investigation was initiated on December 4, 2002 in response to a petition dated November 20, 2002, and filed by a company official on behalf of workers at Beres Industries, Inc., Lakewood, New Jersey. The workers produced plastic injection molds, audio cassettes and computer printed cartridges.

The investigation revealed that the subject firm was sold in May 2000. Section 223(b)(1) of the Trade Act of 1974, specifies that no certification may apply to a worker separated more than one year prior to the date of the petition. Consequently, further investigation in this case would serve no purpose, and the investigation has been terminated.

Signed in Washington, DC this 9th day of May 2003.
Linda G. Poole,
Certifying Officer, Division of Trade Adjustment Assistance.

[FR Doc. 03-12556 Filed 5-19-03; 8:45 am]

BILLING CODE 4510-30-P